DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Vessel Monitoring System Requirements under the Western and Central Pacific Fisheries Convention.

OMB Control Number: 0648-0596.

Form Number(s): None.

Type of Request: Regular (extension of a currently approved information collection).

Number of Respondents: 23.

Average Hours per Response: VMS unit purchase and installation, 1 hr; activation reports, 5 min; on/off reports, 5 min; VMS unit maintenance, 1 hr.

Burden Hours: 57.

Needs and Uses: This request is for an extension of a currently approved information collection. National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Convention), including implementing the decisions of the Commission for the Conservation and Management of Highly Migratory Fish Stocks in the Western and Central Pacific Ocean (Commission). The regulations include a requirement for the owners and operators of U.S. vessels that fish for highly migratory species on the high seas in the Convention Area to carry and operate near real-time satellite-based position-fixing transmitters (“VMS units”) at all times except when the vessel is in port. As part of this requirement, vessel owners and operators must transmit: (1) “on/off reports” to NMFS whenever the VMS unit is turned off while the vessel is in port, (2) “activation reports” to NMFS prior to the first use of a VMS unit, and (3) automatic “position reports” from the VMS unit to NOAA and the Commission as part of a vessel monitoring system (VMS) operated by the Commission (50 CFR 300.45). Under this information collection, it is expected that vessel owners and operators would also need to purchase, install, and occasionally maintain the VMS units.

The information collected from the vessel position reports is used by NOAA and the Commission to help ensure compliance with domestic laws and the Commission's conservation and management measures, and are necessary in order to the United Stated to satisfy its obligations under the Convention.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@ omb.eop.gov or fax to (202) 395-5806.

Dated: January 5, 2016.
Sarah Brabson,
NOAA PRA Clearance Officer.

[FR Doc. 2016-00146 Filed 1-7-16; 8:45 am]

BILLING CODE 3510-22-P